DEPARTMENT OF HEALTH AND HUMAN SERVICES

Centers for Disease Control and Prevention

[60-Day-22-1275; Docket No. CDC-2022-0048]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on the extension of an information collection project titled Promoting Adolescent Health through School-Based HIV Prevention. CDC will continue to use a web-based system to collect data on the strategies that funded Local Education Agencies (LEAs) are using to meet their goals related to three strategies: Delivery of sexual health education (SHE) emphasizing HIV and other STD prevention, increasing adolescent access to key sexual health services (SHS), and establishing safe and supportive environments (SSE) for students and staff.

DATES: CDC must receive written comments on or before June 7, 2022.

ADDRESSES: You may submit comments, identified by Docket No. CDC-2022-0048 by either of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Promoting Adolescent Health through School-Based HIV Prevention (OMB Control No. 0920-1275, Exp. 11/30/2022)—Extension—National Center for HIV, Viral Hepatitis, STD, and TB Prevention (NCHHSTP), Centers for Disease Control and Prevention (CDC).

Background and Brief Description

Many young people engage in sexual behaviors that place them at risk for HIV infection, other sexually transmitted diseases (STD), and pregnancy. According to the 2017 Youth Risk Behavior Survey (YRBS), 39.5% of high school students in the United States have had sexual intercourse and 28.7% were currently sexually active. Among currently sexually active students, 46.2% did not use a condom, and 13.8% did not use any method to prevent pregnancy the last time they had sexual intercourse. While the proportion of high school students who are sexually active has steadily declined, half of the 20 million new STDs reported each year are among young people between the ages of 15-24. Young people aged 13-24 account for 21% of all new HIV diagnoses in the United States, with most occurring among 20-24 year-olds.

Establishing healthy behaviors during childhood and adolescence is easier and more effective than trying to change unhealthy behaviors during adulthood. A critical stage that offers valuable opportunities for improving adolescent health is at school. Schools have direct contact with over 50 million students for at least six hours a day over 13 key years of their social, physical, and intellectual development. In addition, schools often have staff with knowledge of critical health risk and protective behaviors and have pre-existing infrastructure that can support a varied set of healthful interventions. This makes schools well-positioned to help reduce adolescents' risk for HIV infection and other STDs through sexual health education (SHE), access to sexual health services (SHS), and safe and supportive environments (SSE).

Since 1987, the Division of Adolescent and School Health (DASH) in the National Center for HIV, Viral Hepatitis, STD, and TB Prevention of the Centers for Disease Control and Prevention (CDC), has worked to support HIV prevention efforts in the Nation's schools. DASH requests an OMB extension to continue to collect data from agencies funded under award PS18-1807: Promoting Adolescent Health through School-Based HIV Prevention. PS 18-1807 is currently starting year three of data collection, and program activities will continue through 2023. Funded agencies are local education agencies (LEAs), also known as school districts. The fundamental purposes of PS18-1807 are; (1) to build and strengthen the capacity of LEAs and their priority schools to contribute effectively to the reduction of HIV infection and other STD among adolescents, and (2) to reduce disparities in HIV infection and other STD experienced by specific adolescent sub-populations. Priority schools are middle and high schools within the funded LEAs in which youth are at risk for HIV infection and other STD. This funding supports a multi-component, multilevel effort to support youth reaching adulthood in the healthiest possible way.

DASH will continue to use a web-based system to collect data on the strategies that LEAs are using to meet their goals. Strategies include helping LEAs and priority schools deliver SHE emphasizing HIV and other STD prevention; increasing adolescent access to key SHS; and establishing SSE for students and staff. To track funded LEA progress and evaluate the effectiveness of program activities, DASH will collect a mix of process and outcome measure data. LEAs will complete process measures that will assess the extent to which planned program activities have been implemented and lead to feasible and sustainable programmatic outcomes. Process measures include items on school health policy and practice assessment and training and technical assistance received from non-governmental partner organizations. Outcome measures assess whether funded activities at each site are leading to intended outcomes including public health impact of systemic change in schools. The measures tailored to each PS18-1807 strategy (i.e., SHE, SHS, SSE) drove the development of questionnaires.

Respondents are the same 25 LEAs funded under PS18-1807. LEAs will continue to complete the questionnaires semi-annually using the Program Evaluation and Reporting System (PERS), an electronic web-based interface specifically designed for this data collection. Each LEA has a unique login to the system and has access to technical assistance to ensure they can use the system easily. To provide timely feedback to LEAs and DASH staff for accountability and optimal use of funds, the requested dates for data reflect the Office of Financial Resources deadlines. DASH anticipates that semi-annual information collection will continue after the current OMB approval time frame ends on November 30, 2022. With this extension, additional data collection will be conducted at two time points, November 1, 2022-March 1, 2023 and May 1, 2023-September 1, 2023.

The estimated burden per response is approximately 2-26 hours. This estimate includes time for LEAs to gather information at the district and priority school-levels. Annualizing this collection over five years of this project results in an estimated annualized burden of 1,750 hours per year and a total of 3,500 hours for the requested two-year extension across all funded LEAs.

Funded LEAs are required to allocate at least 6% of their NOFO award to support evaluation activities ranging from $15,000 to $21,000. Use of these funds is discretionary, including for collection of process and outcome measures. Funded LEAs are required to spend at least 6% of their award to support evaluation activities, including time to gather and enter data into the online performance and evaluation reporting system.

CDC requests OMB approval for an estimated 1,750 annual burden hours. There are no costs to respondents other than their time to participate.

Estimated Annualized Burden Hours
Type of respondents | Form name | Number of respondents | Number of responses per respondent | Average burden per response (in hours) | Total burden (in hours)
LEA | Funded District Questionnaire | 25 | 2 | 2 | 100
| Priority School Questionnaire | 25 | 2 | 26 | 1,300
| District Assistance Questionnaire | 25 | 2 | 7 | 350
Total |  |  |  |  | 1,750

Jeffrey M. Zirger,
Lead, Information Collection Review Office, Office of Scientific Integrity, Office of Science, Centers for Disease Control and Prevention.

[FR Doc. 2022-07522 Filed 4-7-22; 8:45 am]

BILLING CODE 4163-18-P